DEPARTMENT OF THE INTERIOR

Bureau of Land Management

[AZ-050-00-1220-AA; 8322]

California: Temporary Closure of Squaw Lake Campground to All Access, Imperial County, California

AGENCY: Bureau of Land Management, Interior.

ACTION: Squaw Lake Campground will be closed to all public access: September 5, 2000, through October 31, 2000. The campground will be closed to all motor vehicle and pedestrian traffic. The Squaw Lake boat ramp will also be closed to boat launching.

SUMMARY: Notice is hereby given that all public access is prohibited into the Squaw Lake Campground area. The closed area is located within T.15 S., R.24 E., Section 5, portion of the E½, portion of the E½NW¼, totaling approximately 5 acres more or less.

SUPPLEMENTARY INFORMATION: The temporary closure of Squaw Lake Campground to all public access is being implemented for the health and safety of the public. The U.S. Bureau of Reclamation will be conducting safety testing of the dam structures to determine foundation and seismic stability of the structures. During the testing, the water level of Senator Wash Reservoir will be raised and lowered significantly. The dam will be monitored on a 24 hour basis utilizing various methods and equipment such as flood lights, generators, piezometers and an early alert warning siren for safety. The campground will remain closed to all public access during testing which will take place from September 5, 2000, through October 31, 2000. This closure shall apply to all members of the public unless permitted by an authorized Bureau of Land Management Officer. Authority for this action is contained in 43 CFR 8364.1. Violation of this regulation is punishable by a fine not to exceed $100,000 and/or imprisonment not to exceed 12 months. Vehicles found in violation of this closure notice are subject to being towed at the owners expense.

EFFECTIVE DATES: September 5, 2000, through October 31, 2000.

FOR FURTHER INFORMATION CONTACT: Mark Lowans, Yuma Field Office, 2555 Gila Ridge Road, Yuma, Arizona 85365; (520) 317-3210.

Dated: August 4, 2000.
Maureen A. Merrell,
Assistant Field Manager, Business and Fiscal Services/Acting Field Manager.

[FR Doc. 00-21066 Filed 8-17-00; 8:45 am]

BILLING CODE 4310-32-P